DEPARTMENT OF DEFENSE

Department of the Army

[Docket ID USA-2013-0022]

Privacy Act of 1974; System of Records

AGENCY: Department of the Army, DoD.

ACTION: Notice to alter a System of Records.

SUMMARY: The Department of the Army proposes to alter a system of records notice, A0600-8-104 AHRC, “Army Personnel System (APS)” in its existing inventory of records systems subject to the Privacy Act of 1974, (5 U.S.C. 552a (r)), as amended. This system will manage the member's Army Service effectively, document historically the member's military service, and safeguard the rights of the member and the Army.

DATES: This proposed action will be effective on August 30, 2013 unless comments are received which result in a contrary determination. Comments will be accepted on or before August 29, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/army/index.html.

The proposed systems reports, as required by 5 U.S.C. 552a(r) of the Privacy Act, as amended were submitted on July 2, 2013, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: July 24, 2013.
Aaron Siegel,
Alternate OSD Federal Register Liaison Officer, Department of Defense.

A0600-8-104 AHRC

System name:

Military Personnel Records Jacket Files (MPRJ) (January 6, 2004, 69 FR 790).

* * * * *

Changes:

System name:

Delete entry and replace with “Army Personnel System (APS).”

System location:

Delete entry and replace with “U.S. Army Human Resources Command, 1600 Spearhead Division Avenue, Fort Knox, KY 40122-5500.”

Categories of individuals covered by the system:

Delete entry and replace with “Current and former members of the U.S. Army (including Active and Reserve Components), DoD civilians, military dependents, and members of the general public.”

Categories of records in the system:

Delete entry and replace with “IDENTIFICATION DATA: Name, other names used, name change, Social Security Number (SSN), DoD ID Number, driver's license number, other ID number, citizenship, legal status, gender/sex, race/ethnicity, ethnic group code, birth date, place of birth, state of birth, country of birth, religious preference, birth certificate, citizenship statement and status, demographics, U.S. field medical card.

CONTACT INFORMATION: Personal cell telephone number, home telephone number, personal email address, mailing/home address, emergency contact, emergency data, Army Knowledge Online (AKO) email address, network login, personal network ID, daytime telephone number, home of record address, geographic location abbreviation, work fax number, work telephone number.

MILITARY PERSONNEL INFORMATION: Military records, acknowledgements of service requirements, active duty report, appellate actions for 10 U.S.C. 815, application for appointment, application for correction of military records, appointments, AKO login, assignment information agreements, elections, history, travel, waivers, awards, Absent Without Leave and desertion records, base pay, basic active service date, benefit data, board results, branch, career field designation date, career guidance, casualty line of duty report, certificate of release or discharge from active duty, commissioned service start date, commissioning source, conscientious objector summary sheets review, current organization, current position and tour information, dates (entry on active duty, mandatory removal retention expiration, previous rank, rank), declaration of parent/guardian, deferment, designations, determinations of moral eligibility, discharge or separation reviews, duty address (mailing address, city, state, nine digit zip code), duty command of assignment, duty station, effective date of duty assignment, efficiency appeals, election of options, employment assistance information, enlistment (contract, extensions, statements), evaluations, expiration of term of service, field/application for active duty, flight status board reviews, grade, grade reserve, inactive status date, incentive data, investigation status, language/foreign language qualifications, legal information, length of service, limitations, line of duty and misconduct determinations, location history, major command, mandatory removal date, Military Occupational Specialty (duty, primary and/or secondary, skill level), military service obligation statutory expiration date, military training data, miscellaneous correspondence, documents and orders relating to military service, mobilization information, mobilization status, oath of enlistment, office location, office symbol, Official Military Personnel File documents, order date, order number, pay data, pay entry base date, pay grade, pay grade at retirement, photograph/DA photo, physical evaluation board proceedings, pre-induction processing and commissioning data, projected separation date, promotion data (eligibility date, notifications, pass-over notifications, recommendations, approvals, declinations, reconsiderations, reduction), qualification record, rank, recommendations for awards, regular Army appointment date, Reserve programs, retirement data (date, eligibility date, order numbers, points), security clearance (clearance, date, personal security investigation completion date, questionnaire, status, requirements), separation date, service code, Social Security Administration correspondence, statement of service, status award code, status change date, Survivor Benefit Plan information, term of service, tour end date, tour start date, transcripts of military records, transfer or discharge report, transfers, U.S. Army unit number, unit name, veterans' services, voluntary reduction, volunteer status, waiver of disqualifications.

DEPENDENT/FAMILY DATA: Mother's maiden name, mother's middle name, marital status, date of marriage, spouse information (citizenship, country of birth, date of birth, date of death, SSN, state of birth), child information, child SSN, family members' names, family members' dates of birth, miscellaneous correspondence pertaining to dependents.

FINANCIAL INFORMATION: Bank account number, financial institution.

MEDICAL INFORMATION: Medical records, applications for review by physical evaluation and disability boards, date of last physical examination, disability information, HIV test date, medical examination, and temporary disability record.

LAW ENFORCEMENT INFORMATION: Consent for police record checks, FBI reports.

EMPLOYMENT INFORMATION: Application for employment, civilian employer (company, job title, position, start date, supervisor information, work address, work telephone).

EDUCATION INFORMATION: Civilian education (certifications, degree code, education code, degree, major, transcripts, university, military education (records, code, courses).”

Authority for maintenance of the system:

Delete entry and replace with “5 U.S.C. 301, Departmental Regulations, 10 U.S.C. Sections 12731, Age and Service Requirements; 1413a, Combat-related special compensation, 1477, Death gratuity: Eligible survivors; 3013, Secretary of the Army; 612-646, Promotion, Separation, and Involuntary Retirement of Officers on the Active Duty List, Chapter 55, Medical and Dental Care, Chapter 61, Retirement or Separation for Physical Disability, and Subtitle E, Parts I-IV, Reserve Components; 37 U.S.C. 1006, Pay and Allowances; 42 U.S.C. 10606, The Public Health and Welfare; 44 U.S.C. Chapters 29, Records Management by the Archivist of the United States and by the Administrator of General Services, chapter 31, Records Management by Federal Agencies and chapter 33, Disposal of Records, 44 U.S.C. 3101-3102 and 3501, Public Printing and Documents; Public Law 93-3097; Section 636, National Defense Authorization Act; DODD 1030.1, Victim and Witness Assistance; DODD 1200.7, Screening the Ready Reserve; DODD 1235.10, Activation, Mobilization, and Demobilization of the Ready Reserve; DODD 1310.1, Rank and Seniority of Commissioned Officers; DODD 1332.18, Separation or Retirement for Physical Disability; DODI 1300.19, Joint Officer Management Program; DODI 1300.20, DOD Joint Officer Management Program Procedures; DODI 1320.4, Military Officer Actions Requiring Approval of the Secretary of Defense or the President, or Confirmation by the Senate; DODI 1320.12, Commissioned Officer Promotion Program; DODI 1320.14, Commissioned Officer Promotion Program Procedures; Under Secretary of Defense Memo, General and Flag Officer Boards—Adverse Information of a Credible Nature; DODI 1336.08, DODI 1336.08, Military Human Resource Records Life Cycle Management, AR 25-1, Army Knowledge Management and Information Technology; AR 25-400-2, ARIMS; AR 40-3, Medical, Dental, and Veterinary Care; AR 40-407, Nursing Records and Reports; AR 135-133, Ready Reserve Screening, Qualification Records System and Change of Address Reports; AR 135-155, Promotion of Commissioned Officers and Warrant Officers Other Than General Officers; AR 140-1, Army Reserve Mission, Organization, and Training; AR-140-9, Entry On Active Duty or Active Duty for Training (ROTC Officers); AR 140-10, Assignments, Attachments, Details, and Transfers; AR 140-30, Active Duty in Support of the USAR and AGR Management Program; AR 149-50, Officer Candidate School, Army Reserve; AR 140-111, U.S. Army Reserve Reenlistment Program; AR 140-145, IMA Program; AR 140-185, Training and Retirement Point Credits and Unit Level Strength; AR 140-315, Employment and Utilization of U.S. Army Reserve Military Technicians; AR 380-381, Special Access Programs; AR 600-8-6, Personnel Accounting and Strength Reporting; AR 600-8-19, Enlisted Promotions and Reductions; AR 600-8-29, Officer Promotions; AR 600-8-104, Army Military Human Resource Records Management; AR 600-8-111, Wartime Replacement Operations; AR 600-18, The Family Advocacy Program; AR 623-3, Evaluation Reporting System; AR 635-40, Physical Evaluation for Retention, Retirement or Separation; AR 640-30, Photographs for Military Personnel Files; AR 690-200, General Personnel Provisions; DA Pamphlet 600-81, Information Handbook for Operating CONUS Replacement Centers and Individual Deployment Sites; DA Memo 600-2, Policies and Procedures for Active Duty List Officer Selection Boards; and DA G-1 Memo, Personnel Suitability Screening Policy (Enlisted and Officer), Army Directive 2013-06, Providing Specific Law Enforcement Information to Commanders of Newly Assigned Soldiers, and E.O. 9397 (SSN), as amended.”

Purpose:

Delete entry and replace with “Personnel records are created and maintained to manage the member's Army Service effectively, document historically the member's military service, and safeguard the rights of the member and the Army.

The APS will transfer Soldiers' names, ranks, SSNs, and assignment data (both historic and pending) electronically from the Integrated Total Army Personnel Data Base (ITAPDB) to the Centralized Operations Police Suite (COPS) system of the Office of the Provost Marshal General (OPMG) monthly for the purpose of assisting OPMG in providing commanders criminal history of Soldiers incoming to their commands.”

Routine uses of records maintained in the system, including categories of users and the purposes of such uses:

Delete entry and replace with “In addition to those disclosures generally permitted under 5 U.S.C. Section 552a(b) of the Privacy Act of 1974, as amended, these records contained therein may specifically be disclosed outside the DoD as a routine use pursuant to 5 U.S.C. Section 552a(b)(3) as follows:

The DoD Blanket Routine Uses set forth at the beginning of the Army's compilation of systems of records notices may apply to this system.

Note: This system of records contains individually indentifiable health informaton. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

* * * * *

Storage:

Delete entry and replace with “Paper records and electronic storage media.”

* * * * *

Safeguards:

Delete entry and replace with “Buildings and/or rooms employ alarms, security guards, and are security-controlled areas accessible only to authorized persons. Hard copy records are maintained in General Service Administration approved security containers, and records in the U.S. Army Investigative Records Repository are stored in security-controlled areas accessible only to authorized persons. Electronically and optically stored records are maintained in “fail-safe” system software with password-protected access. Records are accessible only to authorized persons with a need-to-know who are properly screened, cleared, and trained.”

Retention and disposal:

Delete entry and replace with “Soldiers records are offered to the National Archives 75 years after individual's final separation. The National Archives, after consultation with the Department of the Army, genealogists, historians, social scientists, and other interested parties, will then determine the disposition of the records based on any continuing administrative needs and their archival value. Records, if any, not selected for permanent retention by the Archives will be disposed of.”

System manager(s) and address:

Delete entry and replace with “Commander, U.S. Army Human Resources Command, 1600 Spearhead Division Avenue, Fort Knox, KY 40122-5500.”

Notification procedure:

Delete entry and replace with “Individuals seeking to determine if information about themselves is contained in this system should address written inquiries to the commander of the organization to which the service member is assigned. For retired and non-unit reserve personnel, information may be obtained from the U.S. Army Human Resources Command, 1600 Spearhead Division Avenue, Fort Knox, KY 40122-5500; for discharged and deceased personnel information contact the National Personnel Records Center, 1 Archives Drive, St. Louis, MO 63138-1002.

Individual should provide the full name, SSN, current address and telephone number, and signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)' ”

Record access procedures:

Delete entry and replace with “Individuals seeking access to records about themselves contained in this system should address written inquiries to the commander of the organization to which the service member is assigned. For retired and non-unit reserve personnel, information may be obtained from the U.S. Army Human Resources Command, 1600 Spearhead Division Avenue, Fort Knox, KY 40122-5500; for discharged and deceased personnel information contact the National Personnel Records Center, 1 Archives Drive, St. Louis, MO 63138-1002.

Individual should provide the full name, SSN, current address and telephone number, and signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)' ”

* * * * *

[FR Doc. 2013-18186 Filed 7-29-13; 8:45 am]

BILLING CODE 5001-06-P